DEPARTMENT OF AGRICULTURE

Food and Nutrition Service

Agency Information Collection Activities: Proposed Collection; Comment Request—Supplemental Nutrition Assistance Program Education and Obesity Prevention Grant (SNAP-Ed) National Program Evaluation and Reporting System (N-PEARS)

AGENCY: Food and Nutrition Service (FNS), USDA.

ACTION: Notice.

SUMMARY: In accordance with the Paperwork Reduction Act of 1995, this notice invites the general public and other public agencies to comment on this proposed information collection. This is a new collection to consolidate and improve SNAP-Ed data collecting and reporting, as required in the 2018 Farm Bill.

DATES: Written comments must be received on or before August 9, 2022.

ADDRESSES: Comments may be sent to: Maribelle Balbes, Food and Nutrition Service, U.S. Department of Agriculture, Supplemental Nutrition Assistance Program, 1320 Braddock Place, 5th Floor, Alexandria, VA 22314. Comments also may be submitted via email to SNAP-Ed@usda.gov. Comments also will be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Maribelle Balbes at 703-605-4272 or SNAP-Ed@usda.gov.

SUPPLEMENTARY INFORMATION: Comments are invited on: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Education and Obesity Prevention Grant (SNAP-Ed) National Program Evaluation and Reporting System (N-PEARS)

Form Number: SNAP-Ed Annual Report (Form FNS-925A) and SNAP-Ed State Plan (Form FNS-925B).

OMB Number: 0584-NEW.

Expiration Date: Not Yet Determined.

Type of Request: New collection.

Abstract: This is a new information collection request. FNS administers the nutrition assistance programs of the U.S. Department of Agriculture (USDA), including the Supplemental Nutrition Assistance Program (SNAP). The SNAP Nutrition Education and Obesity Prevention Grant Program (referred to as SNAP-Ed), established by the Food and Nutrition Act of 2008, as amended (Pub. L. 115-334, “The Act”) is the nutrition education and promotion component of SNAP. Under current SNAP regulations (7 CFR 272.2 (d)), State SNAP agencies have the option to provide, as part of their administrative operations, nutrition education for persons who are eligible to receive SNAP benefits and other means-tested Federal assistance programs. The goal of SNAP-Ed is to improve the likelihood that persons eligible for SNAP will make healthy food choices within a limited budget and choose physically active lifestyles consistent with the current Dietary Guidelines for Americans and the USDA food guidance. SNAP-Ed's target audience includes low-income individuals eligible to receive benefits under SNAP or other means-tested Federal assistance programs, and individuals residing in communities with a significant (50 percent or greater) low-income population. State SNAP agencies have the option of providing SNAP-Ed services to SNAP recipients as part of their SNAP operations. As of 2022, all 53 States and Territories implement some form of SNAP-Ed program. Participating States receive federally allocated grants every year that are used to cover States' SNAP-Ed expenses at a rate of 100 percent. Some State SNAP Agencies choose to implement their SNAP-Ed programs themselves, while others contract with sub-grantees referred to as Implementing Agencies (IAs) to carry out SNAP-Ed programming. Implementing agencies are entities that contract with State SNAP agencies to provide SNAP-Ed services and include cooperative extension offices, universities, State departments of health or education, State-level nutrition networks, food banks, and other organizations. SNAP-Ed programming can comprise a wide range of evidence-based strategies, but common approaches include direct classroom or online education, community-level nutrition and health initiatives, and social marketing messaging. The annual SNAP-Ed Plan Guidance, available online (https://snaped.fns.usda.gov/program-administration/snap-ed-plan-guidance-and-templates) describes SNAP-Ed Programming options in detail.

Current Process

Currently, States submit their SNAP-Ed Nutrition Education Plans to FNS in electronic format via FNS PartnerWeb by August 15 of each year, as required at 7 CFR 272.2(d)(2). These State plans are prepared according to the SNAP-Ed Plan Guidance, which is updated annually and available online (https://snaped.fns.usda.gov/program-administration/snap-ed-plan-guidance-and-templates), and must include key features such as a needs assessment of the SNAP-Ed-eligible public, a description of the SNAP-Ed programming the State proposes to undertake, a budget, and a record of the States' consultation with partner and stakeholder groups. FNS Regional Offices review and approve State plans before States can use the year's SNAP-Ed funding. The burden associated with State plans is currently approved under OMB Control Number 0584-0083, expiration 08/21/2023. Additionally, 7 CFR 272.2(d)(2)(xiii) requires State agencies to submit an Annual Report on SNAP-Ed activities to FNS in two parts: the Education and Administrative Reporting System (EARS) form (FNS-759) is submitted by State agencies each December via the Food Program Reporting System (FPRS, currently approved under OMB Control No. 0584-0594, expiration 07/31/2023), and a SNAP-Ed Annual Narrative Report is submitted to FNS each January via email. The burden for these reports is also approved through OMB Control Number 0584-0083, included in the State Plan of Operations Update. There are no Individuals or Households directly impacted by this information collection and any burden associated with I/H is already covered in OMB Control Number: 0584-0064; Expiration date: 02/2024. The agency is not seeking to duplicate those estimates associated with I/H.

In States where SNAP-Ed activities are being conducted by implementing agencies, the IAs individually plan, track, and report their data, and then submit their plan and report materials to the State to be reviewed and combined for the submission of a single, statewide Annual Report. The information collected in the Annual Report is necessary to ensure that State agencies are maximizing the use of resources to identify target audiences; implementing interventions and strategies that meet the assessed nutrition, physical activity, and obesity prevention needs of the target population; and promoting the availability of SNAP-Ed activities in local communities. In addition, the information collected from State agencies is necessary to ensure integrity of funds, demonstrate program effectiveness, and track SNAP-Ed outcomes and impacts. The new N-PEARS system outlined in this notice will increase efficiency and reduce burden by providing all State and Implementing Agencies with a single streamlined, online tool for their plans and reports. It will simplify the review and submission process—both for States reviewing implementing agency data and for FNS staff approving State Plans—and provide better tools for FNS and the public to visualize and understand SNAP-Ed outcomes through data.

New Process—N-PEARS

As directed by the Agriculture Improvement Act of 2018 (“2018 Farm Bill”, Pub. L. 115-334), FNS has worked to improve the SNAP-Ed data reporting process by providing States with a robust electronic, online reporting system. FNS has entered into a cooperative agreement with the Kansas State University Research Foundation to develop and maintain new State Plan and Annual Report modules for their Program Evaluation and Reporting System (PEARS), an existing reporting system that many States have already elected to purchase to track and report SNAP-Ed data for their own needs. These new plan and annual report modules, referred to as the National Program Evaluation and Reporting System (N-PEARS), will still be housed inside the platform many States are already familiar with—not on a separate FNS website—and will require no additional paperwork or purchase by States. This system will allow States to submit their SNAP-Ed annual Nutrition Education Plans (SNAP-Ed State Plan) and a new, consolidated Annual Report. These newly developed annual plan and Annual Report systems (form FNS-925A, SNAP-Ed Annual Report, and form FNS-925B, SNAP-Ed State Plan) will provide FNS with data that are more consistent across State programs and, thus, facilitate data aggregation and evaluation of SNAP-Ed grants. This system will also streamline the annual plan and Annual Report submission and review process for States and FNS. There will be no change in submission deadlines, and the plan and report modules housed in N-PEARS will ease tracking and submission by walking users through the plan and report-writing process step-by-step, using autofill to avoid re-entering repeated data, and automatically skipping sections not needed for a particular State or IA's plan or report. The order and phrasing of the questions themselves have also been reworked for clarity and ease of use based on feedback from FNS and State staff. Once this collection is approved by OMB, the State Plan and Annual Report review process will also be streamlined for FNS staff, as State Plans previously submitted individually and often as long documents will now be housed in a centralized system and viewable in a single, streamlined format.

This new information collection covers the reporting and recordkeeping requirements associated with the SNAP-Ed State Plan and the new Annual Report forms. Upon the approval of this information collection and associated forms, using a change request memo, FNS will remove the burden associated with the SNAP-Ed Nutrition Education Plan annual updates (53 hours) from OMB Control Number 0584-0083. FNS also will remove the burden associated with the EARS Report (FNS Form-759; 2,808 hours) from OMB Control Number 0584-0594 and discontinue the form. While the new burden estimate presented here is higher than the burden hours removed from existing approved information collections, this is largely due to FNS' attempts to accurately capture the role that Implementing Agencies play in SNAP-Ed operations. The previous information collections referenced above accounted for SNAP-Ed plan and report activities only in terms of State and Territory respondents—whereas this collection includes burden down to the level of individual implementing agencies.

In developing the burden estimates for this information collection, FNS consulted with two States involved in the development and pre-testing of the new SNAP-Ed State Plan and the Annual Report forms. In an effort to derive realistic averages of the time needed to complete the activities covered in the information collection, the two States consulted consisted of one “small” State and one “large” State, based on funding allocation. To further refine the time burdens associated with the new N-PEARS system, FNS intends to broaden its consultation efforts to no more than seven additional States (for a total of nine or fewer) during the 60-day comment period. As part of its consultation efforts, FNS also will seek information on how to account for implementing agency burden, given the diversity across States. In addition, through this notice, FNS seeks public comments on methods that can be used to account for implementing agency burden.

Affected Public: State agencies that elect to request Federal SNAP-Ed grant funds to conduct nutrition education and obesity prevention services, and SNAP-Ed implementing agencies.

Estimated Number of Respondents: 53 State agencies (50 U.S. States, District of Columbia, Guam, and the U.S. Virgin Islands) and 168 implementing agencies (97 State government agencies, 7 local government agencies, 12 Tribal government agencies, and 52 not-for-profit institutions).

Estimated Number of Responses per Respondent: 26 responses per respondent per year. This total number of responses includes: (1) submission of the SNAP-Ed State Plan form once a year by the State or Implementing Agency (1 response); (2) submission of the SNAP-Ed Annual Report form once a year by the State or Implementing Agency (1 response); (3) review of standards established in the regulation, SNAP-Ed Plan Guidance, and other FNS policy once a month by the State or Implementing Agency (12 responses); and (4) State or Implementing Agency activities to meet FNS fiscal recordkeeping requirements once a month (12 responses).

Estimated Total Annual Responses: 5,746.

Estimated Time per Response: 14.234 hours.

Estimated Total Annual Burden on Respondents: 81,789 hours. See the table below for estimated total annual burden for each type of respondent.

SNAP-Ed National Program Evaluation and Reporting System (N-PEARS) ICR
Respondent type | Burden activity | Regulation at 7 CFR 272.2 | Estimated number of respondents | Annual responses per respondent | Total annual responses | Estimated average number of hours per response | Estimated total hours | Previously approved burden hours | Change in burden hours due to an adjustment | Change in burden hours due to program change | Total difference in burden hours
Reporting
State Agencies that Administer the Program | Prepare and submit SNAP-Ed State Plan Form (OMB Control No.: 0584-0083) | (d)(2), (d)(2)(ii) through (d)(2)(ix) | 53 | 1 | 53 | 470 | 24,931 | 53 | 24,878 | 0 | 24,878
| Prepare and submit SNAP-Ed Annual Report Form (OMB Control No.: 0584-0594) FNS 759 | (d)(2)(xiii) | 53 | 1 | 53 | 33 | 1,764 | 2,808 | −1,044 | 0 | −1,044
Subtotal for State Agencies that Administer the Program | 53 | 2 | 106 | 252 | 26,695 | 2,861 | 23,834 | 0 | 23,834
Implementing Agencies— State Government | Prepare and submit SNAP-Ed State Plan Form | (d)(2), (d)(2)(ii) through (d)(2)(ix) | 97 | 1 | 97 | 216 | 20,982 | 0 | 20,982 | 0 | 20,982
| Prepare and submit SNAP-Ed Annual Report Form | (d)(2)(xiii) | 97 | 1 | 97 | 176 | 17,098 | 0 | 17,098 | 0 | 17,098
Subtotal for Implementing Agencies—State Government | 97 | 2 | 194 | 196 | 38,080 | 0 | 38,080 | 0 | 38,080
Implementing Agencies—Local Government | Prepare and submit SNAP-Ed State Plan Form | (d)(2), (d)(2)(ii) through (d)(2)(ix) | 7 | 1 | 7 | 14 | 99 | 0 | 99 | 0 | 99
| Prepare and submit SNAP-Ed Annual Report Form | (d)(2)(xiii) | 7 | 1 | 7 | 10 | 70 | 0 | 70 | 0 | 70
Subtotal for Implementing Agencies—Local Government | 7 | 2 | 14 | 12 | 169 | 0 | 169 | 0 | 169
Implementing Agencies—Tribal Government | Prepare and submit SNAP-Ed State Plan Form | (d)(2), (d)(2)(ii) through (d)(2)(ix) | 12 | 1 | 12 | 28 | 338 | 0 | 338 | 0 | 338
| Prepare and submit SNAP-Ed Annual Report Form | (d)(2)(xiii) | 12 | 1 | 12 | 20 | 239 | 0 | 239 | 0 | 239
Subtotal for Implementing Agencies—Tribal Government | 12 | 2 | 24 | 24 | 577 | 0 | 577 | 0 | 577
Total Estimated Reporting Burden for State/Local/Tribal Government Level | 169 | 2 | 338 | 194 | 65,521 | 2,861 | 62,660 | 0 | 62,660
Implementing Agencies—Not-For-Profit Institution | Prepare and submit SNAP-Ed State Plan Form | (d)(2), (d)(2)(ii) through (d)(2)(ix) | 52 | 1 | 52 | 118 | 6,119 | 0 | 6,119 | 0 | 6,119
| Prepare and submit SNAP-Ed Annual Report Form | (d)(2)(xiii) | 52 | 1 | 52 | 93 | 4,845 | 0 | 4,845 | 0 | 4,845
Subtotal for Implementing Agencies—Not-For-Profit Institution | 52 | 2 | 104 | 105 | 10,964 | 0 | 10,964 | 0 | 10,964
Total Estimated Reporting Burden for Business Level | 52 | 2 | 104 | 105 | 10,964 | 0 | 10,964 | 0 | 10,964
TOTAL ESTIMATED REPORTING BURDEN | 221 | 4 | 442 | 299 | 76,485 | 2,861 | 73,624 | 0 | 73,624
Recordkeeping
State Agencies that Administer the Program | Review standards established in the regulation, SNAP-Ed Plan Guidance, and other FNS policy | (d)(2)(i) | 53 | 12 | 636 | 1 | 636 | 0 | 636 | 0 | 636
| Meet FNS fiscal recordkeeping requirements | (d)(2)(xi) | 53 | 12 | 636 | 1 | 636 | 0 | 636 | 0 | 636
Subtotal for State Agencies that Administer the Program | 53 | 24 | 1,272 | 1 | 1,272 | 0 | 1,272 | 0 | 1,272
Implementing Agencies—State Government | Review standards established in the regulation, SNAP-Ed Plan Guidance, and other FNS policy | (d)(2)(i) | 97 | 12 | 1,164 | 1 | 1,164 | 0 | 1,164 | 0 | 1,164
| Meet FNS fiscal recordkeeping requirements | (d)(2)(xi) | 97 | 12 | 1,164 | 1 | 1,164 | 0 | 1,164 | 0 | 1,164
Subtotal for Implementing Agencies—State Government | 97 | 24 | 2,328 | 1 | 2,328 | 0 | 2,328 | 0 | 2,328
Implementing Agencies—Local Government | Review standards established in the regulation, SNAP-Ed Plan Guidance, and other FNS policy | (d)(2)(i) | 7 | 12 | 84 | 1 | 84 | 0 | 84 | 0 | 84
| Meet FNS fiscal recordkeeping requirements | (d)(2)(xi) | 7 | 12 | 84 | 1 | 84 | 0 | 84 | 0 | 84
Subtotal for Implementing Agencies—Local Government | 7 | 24 | 168 | 1 | 168 | 0 | 168 | 0 | 168
Implementing Agencies—Tribal Government | Review standards established in the regulation, SNAP-Ed Plan Guidance, and other FNS policy | (d)(2)(i) | 12 | 12 | 144 | 1 | 144 | 0 | 144 | 0 | 144
| Meet FNS fiscal recordkeeping requirements | (d)(2)(xi) | 12 | 12 | 144 | 1 | 144 | 0 | 144 | 0 | 144
Subtotal for Implementing Agencies—Tribal Government | 12 | 24 | 288 | 1 | 288 | 0 | 288 | 0 | 288
Total Estimated Recordkeeping Burden for State/Local/Tribal Government Level | 169 | 24 | 4,056 | 1 | 4,056 | 0 | 4,056 | 0 | 4,056
Implementing Agencies—Not-For-Profit Institution | Review standards established in the regulation, SNAP-Ed Plan Guidance, and other FNS policy | (d)(2)(i) | 52 | 12 | 624 | 1 | 624 | 0 | 624 | 0 | 624
| Meet FNS fiscal recordkeeping requirements | (d)(2)(xi) | 52 | 12 | 624 | 1 | 624 | 0 | 624 | 0 | 624
Subtotal for Implementing Agencies—Not-For-Profit Institution | 52 | 24 | 1,248 | 1 | 1,248 | 0 | 1,248 | 0 | 1,248
Total Estimated Recordkeeping Burden for Business Level | 52 | 24 | 1,248 | 1 | 1,248 | 0 | 1,248 | 0 | 1,248
TOTAL ESTIMATED RECORDKEEPING BURDEN | 221 | 48 | 5,304 | 2 | 5,304 | 0 | 5,304 | 0 | 5,304
GRAND TOTAL FOR REPORTING AND RECORDKEEPING BURDEN | 221 | 52 | 5,746 | 14.234 | 81,789 | 2,861 | 78,928 | 0 | 78,928

Cynthia Long,
Administrator, Food and Nutrition Service.

[FR Doc. 2022-12504 Filed 6-9-22; 8:45 am]

BILLING CODE 3410-30-P